DEPARTMENT OF DEFENSE

Department of the Army

Environmental Impact Statement for the Development of a Heavy Off-Road Mounted Maneuver Training Area at Fort Benning, Georgia

AGENCY: Department of the Army, DOD.

ACTION: Notice of Intent.

SUMMARY: The Department of the Army intends to prepare an Environmental Impact Statement (EIS) to analyze potential environmental and socioeconomic impacts, and identify related mitigation measures, associated with the Army's proposal to develop, operate, and maintain a Heavy Off Road Mounted Maneuver Training Area (HOMMTA) of at least 2,400 contiguous acres at Fort Benning, Georgia to support off-road armor vehicle movement and maneuver.

DATES: The public comment period will end 30 days after publication of the Notice of Intent in the Federal Register by the Department of the Army.

ADDRESSES: Please send written comments to Fort Benning Environmental Management Division, Attn: NEPA Program Manager, 6650 Meloy Drive, Building 6, Room 309, Fort Benning, GA 31905-5122 or email to john.e.brown12.civ@mail.mil.

FOR FURTHER INFORMATION CONTACT: Mr. John Brown, Fort Benning Environmental Management Division, at (706) 545-7549 from 9 a.m. to 4 p.m. EST. Information updates and background on the HOMMTA EIS can also be accessed at https://www.benning.army.mil/garrison/dpw/EMD/Legal.html.

SUPPLEMENTARY INFORMATION: Fort Benning's Maneuver Center of Excellence (MCoE), which includes the Army's Armor and Infantry Schools, supports training of Infantry and Armor Soldiers and leaders for a wide variety of situations that they can expect to encounter on the modern battlefield. Fort Benning is also home to several deployable units that conduct heavy off-road maneuver training, including the 1st Security Force Assistance Brigade, Task Force 1-28 Infantry, and elements of the 75th Ranger Regiment. Fort Benning must be able to train and develop highly skilled and cohesive units capable of conducting operations across the full spectrum of conflict. Inherent in and vital to this training is the requirement to provide sufficient heavy off-road mounted maneuver training area. Currently, the Good Hope Maneuver Training Area (GHMTA) is the only training area at Fort Benning suitable for this training. GHMTA maneuver boxes do not provide enough contiguous off-road maneuver space. Of the available 11,154 acres of the GHMTA, only 1,952 non-contiguous acres, with no more than 371 acres of open and maneuverable terrain in any section, can be used for heavy off-road mounted maneuver.

The purpose of the Proposed Action is to provide Fort Benning with a HOMMTA consistent with the current training requirements of the MCoE and Fort Benning's tenant units. The Proposed Action is needed to address the lack of sufficient contiguous off-road maneuver area to meet training requirements for heavy armor vehicle (tracked and wheeled) off-road maneuver training at Fort Benning. This lack of maneuver space has recently become more problematic since the Army's training strategy has changed and requires a more dispersed approach to movement and maneuver. The GHMTA does not have available area and time for both the required MCoE courses and deployable tenant units. Managing demand for the training area through scheduling is no longer a viable option.

In concert with the EIS, the Army will prepare studies, analyses, and permit applications to meet other Federal requirements, such as Section 7 of the Endangered Species Act, Sections 401 and 404 of the Clean Water Act, and Section 106 of the National Historic Preservation Act. Mitigation through avoidance and low-impact design would be used to avoid adverse impacts to sensitive environmental resources to the maximum extent practicable.

The EIS will analyze the No Action Alternative and three distinct location alternatives on Fort Benning. The following alternatives proposed for analysis have been initially determined to be feasible and to meet the purpose of and need for the Proposed Action. Some alternatives are larger than the minimum 2,400 acres to ensure they include enough contiguous areas suitable for heavy off-road mounted maneuver training.

Northern Mounted Maneuver Training Area (NMMTA) Alternative: This alternative includes approximately 4,723 acres and is located adjacent to and east of the current Northern Maneuver Training Area (NMTA) and west of the nearby Digital Multi-Purpose Range Complex (DMPRC).

Red Diamond Alternative: This alternative includes approximately 3,743 acres and is located south of the Southern Maneuver Training Area (SMTA) on the Installation's southern boundary.

Eastern Boundary Alternative: This alternative includes approximately 2,405 acres and is located between the Kilo dudded impact area and the Installation's eastern boundary.

Resource areas that will be analyzed in the EIS include: Land use, aesthetics, air quality, noise, geology and soils, water resources, biological resources, cultural resources, socioeconomics and environmental justice, traffic and transportation, utilities, and hazardous and toxic materials/waste. The EIS will also analyze potential cumulative environmental effects. Based on initial review by the Army, potentially significant adverse impacts to water, biological, and/or cultural resources could occur if no mitigation were included. Mitigation measures will be presented in the EIS to reduce potential adverse effects.

The public is invited to participate in the scoping process. The scoping process begins with the publication of this Notice of Intent in the Federal Register and will last for 30 days. The scoping process will include a public scoping meeting, which is an opportunity for the public to receive information about the Proposed Action and assist the Army in identifying issues related to the Proposed Action. This meeting will be held near Fort Benning; the specific details of the meeting will be announced in local media. The public will also be invited to review and comment on the Draft EIS when it is available for review. Comments from the public will be considered before any decision is made regarding implementation of the Proposed Action.

Brenda S. Bowen,
Army Federal Register Liaison Officer.

[FR Doc. 2019-01839 Filed 2-8-19; 8:45 am]

BILLING CODE 5001-03-P